DEPARTMENT OF ENERGY

Federal Energy Regulatory Commission

[Project No. 4900-087]

Forestport Hydro, LLC; Notice of Intent To File License Application, Filing of Pre-Application Document, and Approving Use of the Traditional Licensing Process

a. Type of Application: Notice of Intent (NOI) to File License Application and Request to Use the Traditional Licensing Process (TLP).

b. Project No.: 4900-087.

c. Date Filed: February 28, 2022.

d. Submitted by: Forestport Hydro, LLC (Forestport).

e. Name of Project: Forestport Hydroelectric Project.

f. Location: Located at the confluence of the Black River and Alder Creek, in the Town of Forestport in Oneida County, New York. The project does not occupy any federal land.

g. Filed Pursuant to: 18 CFR 5.3 of the Commission's regulations.

h. Potential Applicant Contact: Mr. Justin Bristol, Asset Development, Clear Energy Hydro, LLC, 18 S Wilcox St., Ste. 100, Castle Rock, CO 80104. Phone: (401) 793-6041, Email: Justinb@clearenergyhydro.com.

i. FERC Contact: Erin Stockschlaeder, Phone: (202) 502-8107, Email: erin.stockschlaeder@ferc.gov.

j. Forestport Hydro filed its request to use the TLP on February 28, 2022 and provided public notice of its request on March 10 and 13, 2022.¹ In a letter dated April 26, 2022, the Director of the Division of Hydropower Licensing approved Forestport Hydro's request to use the TLP.

¹ Forestport Hydro originally provided public notice of its request on March 6 and 8, 2022, 6 and 8 days later than required under section 5.3 of the Commission's regulations that stated comments would be due by March 30, 2022 (30 days from the NOI filing date). To allow for a full 30-day public comment period, Forestport Hydro published errata notices on March 10 and 13, 2022 that stated comments on the TLP request would be due by April 12, 2022.

k. With this notice, we are initiating informal consultation with the U.S. Fish and Wildlife Service and/or NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating Forestport Hydro as the Commission's non-federal representative for carrying out informal consultation pursuant to section 7 of the Endangered Species Act; and consultation pursuant to section 106 of the National Historic Preservation Act.

m. Forestport Hydro filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

o. The applicant states its unequivocal intent to submit an application for a new license for Project No. 4900. Pursuant to 18 CFR 16.8, 16.9, and 16.10 each application for a new license and any competing license applications must be filed with the Commission at least 24 months prior to the expiration of the existing license. All applications for license for this project must be filed by February 28, 2025.

p. Register online at http://www.ferc.gov/docs-filing/esubscription.asp to be notified via email of new filing and issuances related to this or other pending projects. For assistance, contact FERC Online Support.

Dated: April 26, 2022.
Kimberly D. Bose,
Secretary.

[FR Doc. 2022-09337 Filed 4-29-22; 8:45 am]

BILLING CODE 6717-01-P